DEPARTMENT OF JUSTICE

Notice of Lodging of Consent Decree Under the Comprehensive Environmental Response, Compensation, and Liability Act

Notice is hereby given that on May 18, 2009, a proposed Consent Decree in United States of America v. Georgia Pacific LLC, Civil Action No. 1:09-cv-429, was lodged with the United States District Court for the Western District of Michigan.

In this action the United States sought to recover from Georgia Pacific environmental response costs in connection with a disposal area (known as “OU2”) at the Allied Paper/Portage Creek/Kalamazoo River Superfund Site in Kalamazoo and Portage Counties, Michigan (the “Site”). In addition, the United States sought a judgment declaring that the Defendant is liable for any further response costs that the United States may incur as a result of releases or threatened releases of hazardous substances at OU2. The Consent Decree provides that Georgia Pacific shall, inter alia, (1) perform the remedy selected by the United States Environmental Protection Agency (“EPA”) for OU2; and (2) pay all of EPA's costs of overseeing the work as well as $225,509.91 towards EPA's past costs.

The U.S. Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611. In either case, the comments should refer to United States of America v.Georgia Pacific LLC, Civil Action No. 1:09-cv-429, D.J. Ref. 90-11-2-07912.

During the comment period, the Consent Decree may be examined at the Office of the United States Attorney, Western District of Michigan, 5th Floor, The Law Building, 330 Iona Ave., Grand Rapids, MI 49503, and at the offices of the U.S. Environmental Protection Agency, Region 5, 77 W. Jackson Blvd., Chicago, IL 60604. The Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $44.50 (25 cents per page reproduction cost) payable to the U.S. Treasury.

Maureen Katz,
Assistant Section Chief, Environmental Enforcement Section, Environment and Natural Resources Division.

[FR Doc. E9-12871 Filed 6-2-09; 8:45 am]

BILLING CODE 4410-15-P